DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 19, 2006.

Interested persons are invited to submit written comments regarding the subject matter of the investigations to the Director, Division of Trade Adjustment Assistance, at the address shown below, not later than June 19, 2006.

The petitions filed in this case are available for inspection at the Office of the Director, Division of Trade Adjustment Assistance, Employment and Training Administration, U.S. Department of Labor, Room C-5311, 200 Constitution Avenue, NW., Washington, DC 20210.

Signed at Washington, DC, this 31st day of May 2006.
Erica R. Cantor,
Director, Division of Trade Adjustment Assistance.

Appendix
[TAA petitions instituted between 5/15/06 and 5/26/06]
TA-W | Subject firm (petitioners) | Location | Date of institution | Date of petition
59391 | Monster (Wkrs) | Brisbane, CA | 5/15/06 | 05/12/06
59392 | Sherwood Harasco (UAW) | Lockport, NY | 5/15/06 | 05/12/06
59393 | SMM USA Inc. (Comp) | Oceanside, CA | 5/15/06 | 05/12/06
59394 | Torque Traction Manufacturing Technologies, Inc. (Comp) | Bristol, VA | 5/15/06 | 05/03/06
59395 | Rowe Furniture Corporation (Wkrs) | Poplar Bluff, MO | 5/15/06 | 04/27/06
59396 | GE Silicones (Comp) | Willoughby, OH | 5/15/06 | 05/15/06
59397 | Tyden Seal Company (The) (Comp) | Hastings, MI | 5/15/06 | 05/15/06
59398 | Progress Casting (State) | Albert Lea, MN | 5/15/06 | 05/15/06
59399 | Skyline Plastic Systems (Comp) | Fletcher, NC | 5/15/06 | 05/10/06
59400 | Factory Fabrics (State) | Cumberland, RI | 5/15/06 | 04/27/06
59401 | Worth, a K2 Company (Comp) | Tullahoma, TN | 5/16/06 | 05/12/06
59402 | Professional Towel Mills (Comp) | Abbeville, SC | 5/16/06 | 05/15/06
59403 | Picolight, Inc. (State) | Louisville, CO | 5/16/06 | 05/16/06
59404 | Phoenix Gold In'l Inc. (Comp) | Portland, OR | 5/16/06 | 05/15/06
59405 | Alice Manufacturing Company Inc. (Comp) | Easley, SC | 5/16/06 | 05/15/06
59406 | Jakel Inc. | Highland, IL | 5/16/06 | 05/15/06
59407 | Amcast Automotive (Comp) | Gas City, IN | 5/16/06 | 05/15/06
59408 | WestPoint Stevens, Inc. (Wkrs) | Drakes Branch, VA | 5/16/06 | 05/09/06
59409 | Components Manufacturing Co. (Comp) | Augusta, GA | 5/16/06 | 05/08/06
59410 | Ameritex Yarn LLC (WKRS) | Burlington, NC | 5/17/06 | 05/07/06
59411 | Quadriga Art Inc. (STATE) | Pennsauken, NJ | 5/17/06 | 05/16/06
59412 | Archway and Mother's Cake & Cookie Co. (union) | Oakland, CA | 5/17/06 | 05/16/06
59413 | Eaton Corporation (Comp) | Cleveland, OH | 5/17/06 | 05/17/06
59414 | Bemis Company, Inc. (Union) | Peoria, IL | 5/17/06 | 04/25/06
59415 | WestPoint Home (Comp) | Columbia, AL | 5/18/06 | 05/16/06
59416 | Saint Gobain Ceramics (Comp) | Sanborn, NY | 5/18/06 | 04/21/06
59417 | Laser Technologies and Services, Inc. (Comp) | Exton, PA | 5/18/06 | 05/17/06
59418 | Glomar Steel Co. (State) | Ecorse, MI | 5/18/06 | 05/17/06
59419 | Panel Processing Inc. (Wkrs) | Alpena, MI | 5/18/06 | 05/17/06
59420 | Modern Plastic Technology (Wkrs) | Port Huron Twp., MI | 5/18/06 | 05/07/06
59421 | St. Johns Companies (Wkrs) | Logan, OH | 5/18/06 | 05/10/06
59422 | Unifi (Comp) | Reidsville, NC | 5/18/06 | 05/15/06
59423 | Paxar Americas, Inc. (Comp) | Lenoir, NC | 5/18/06 | 05/01/06
59424 | Annalee Mobiltee Dolls Inc. (Comp) | Meredith, NH | 5/18/06 | 05/18/06
59425 | RBC Nice Bearings Inc. (Comp) | Kulpsville, PA | 05/18/06 | 05/05/06
59426 | Continental Tire North America (Comp) | Charlotte, NC | 05/19/06 | 05/18/06
59427 | Brockway Mould, Inc. (Union) | Brockport, PA | 05/19/06 | 05/18/06
59428 | A.W. Bohanan Co., Inc. (Wkrs) | Dallas, NC | 05/19/06 | 05/17/06
59429 | Badger Sportswear, Inc. (Comp) | Statesville, NC | 05/19/06 | 05/18/06
59430 | Modine Manufacturing (Comp) | Logansport, IN | 05/19/06 | 05/15/06
59431 | Mag, Inc. (WkPlrs) | Martinsville, IN | 05/19/06 | 05/18/06
59432 | Microtronic (State) | Orlando, FL | 05/19/06 | 05/18/06
59433 | BBA Nonwovens Simpsonville Inc. (Comp) | Simpsonville, SC | 05/19/06 | 05/17/06
59434 | Royal Cord Inc. (Wkrs) | Thomaston, GA | 05/22/06 | 05/22/06
59435 | Propex Fabrics Inc. (Comp) | Seneca, SC | 05/22/06 | 05/19/06
59436 | Jacquard LLC (Comp) | Cliffside, NC | 05/22/06 | 05/19/06
59437 | ASC Inc. (Comp) | Gibraltar, MI | 05/22/06 | 05/22/06
59438 | Stimson Lumber Co. (State) | St. Helens, OR | 05/22/06 | 05/19/06
59439 | Dekko Technologies Inc. (Comp) | Mt. Ayr, IA | 05/22/06 | 05/18/06
59440 | Freightliner LLC (State) | Portland, OR | 05/22/06 | 05/19/06
59441 | Four Seasons (Comp) | Grapevine, TX | 05/23/06 | 05/22/06
59442 | TCI Ceramics Inc. (Wkrs) | Hagerstown, MD | 05/23/06 | 05/22/06
59443 | Summit Knitting Mills Inc. (Comp) | Asheboro, NC | 05/23/06 | 05/23/06
59444 | Ericsson Inc. (Comp) | Brea, CA | 05/23/06 | 05/19/06
59445 | Ford Motor Corporation (Wkrs) | St. Paul, MN | 05/23/06 | 05/22/06
59446 | Maremont Co. (Union) | Loudon, TN | 05/23/06 | 05/23/06
59447 | Amcast Automotive (Comp) | Fremont, IN | 05/23/06 | 05/17/06
59448 | Collins and Aikman (Wkrs) | Farmville, NC | 05/24/06 | 05/24/06
59449 | Technical Assoicates (Union) | Macon, GA | 05/24/06 | 05/23/06
59450 | ThereaMatrix Physical Therapy & Services Inc. (Wkrs) | Pontiac, MI | 05/24/06 | 05/05/06
59451 | Columbia Chemicals Co. (Comp) | Proctor, WV | 05/24/06 | 05/08/06
59452 | Insight Direct USA () | Tempe, AZ | 05/24/06 | 05/15/06
59453 | A.W. Bohanan Co. Inc. (Wkrs) | Dallas, NC | 05/24/06 | 05/17/06
59454 | West Point Stevens Inc. (Wkrs) | Drakes Branch, VA | 05/24/06 | 05/15/06
59455 | Universal leaf Tobacco Co. (Wkrs) | Danville, VA | 05/24/06 | 05/24/06
59456 | Tubular Textile (Comp) | Greenville, SC | 05/24/06 | 05/15/06
59457 | James and Sons Neckwear Inc. (Comp) | Sewell, NJ | 05/24/06 | 05/16/06
59458 | Salon Manufacturing Co. (Union) | Skowhegan, ME | 05/24/06 | 05/19/06
59459 | Michelle Jane (Wkrs) | New York, NY | 05/24/06 | 05/19/06
59460 | Hoffman LaRoche (Wkrs) | Nutley, NJ | 05/24/06 | 05/19/06
59461 | American Knitting Corp. (Comp) | Allentown, PA | 05/24/06 | 05/22/06
59462 | Hugo Bosca Co. Inc. (Comp) | Springfield, OH | 05/24/06 | 05/23/06
59463 | Ash Grove Cement Co. (Comp) | Portland, OR | 05/24/06 | 05/22/06
59464 | MTD Southwest Inc. (Comp) | Tucson, AZ | 05/24/06 | 05/23/06
59465 | Saint Gobain Crystals (Union) | Solon, OH | 05/24/06 | 05/24/06
59466 | J-Star Bodco Inc. (Wkrs) | Fort Atkinson, WI | 05/25/06 | 05/12/06
59467 | Dynacast (Union) | Spartanburg, SC | 05/25/06 | 05/24/06
59468 | Intier Automotive Seating (Comp) | Warren, OH | 05/25/06 | 05/12/06
59469 | Simclar (Wkrs) | Round Rock, TX | 05/25/06 | 05/24/06
59470 | ABN AMRO Mortgage Group (Wkrs) | Ann Arbor, MI | 05/25/06 | 05/23/06
59471 | Tigra USA (Comp) | West Jefferson, NC | 05/25/06 | 05/23/06
59472 | Graftech Ucar Carbon Co. Inc. (Union) | Columbia, TN | 05/25/06 | 05/19/06
59473 | Briggs Plumbing Products Inc. (Union) | Flora, IN | 05/26/06 | 05/24/06
59474 | Curt G. Joa (Comp) | Sheboygan Falls, WI | 05/26/06 | 05/25/06
59475 | TRW Automotive Steering Plant (Comp) | Sterling Heights, MI | 05/26/06 | 05/25/06
59476 | Paxar Americas Inc. (Comp) | Rock Hill, SC | 05/26/06 | 05/26/06
59477 | PMC Specialties Group Inc. (Comp) | Cincinnati, OH | 05/26/06 | 05/24/06
59478 | Maytag International (Wkrs) | Schaumburg, IL | 05/26/06 | 05/25/06
59479 | Brand Science LLC (Comp) | Stearns, KY | 05/26/06 | 05/25/06
59480 | Lasting Impressions Inc. (Wkrs) | New York, NY | 05/26/06 | 05/19/06
59481 | Electrolux Home Products (Wkrs) | Jefferson, IA | 05/26/06 | 05/22/06
59482 | Country House Plastics and Finishing LLC (Wkrs) | Gilmanton, NH | 05/26/06 | 05/26/06

[FR Doc. E6-8949 Filed 6-7-06; 8:45 am]

BILLING CODE 4510-30-P